NATIONAL AERONAUTICS AND SPACE ADMINISTRATION

[Notice (00-022)]

NASA Advisory Council (NAC), Space Science Advisory Committee (SScAC), Structure and Evolution of the Universe Subcommittee

AGENCY: National Aeronautics and Space Administration.

ACTION: Notice of meeting.

SUMMARY: In accordance with the Federal Advisory Committee Act, Pub. L. 92-463, as amended, the National Aeronautics and Space Administration announces a meeting of the NASA Advisory Council, Space Science Advisory Committee, Structure of Evolution of the Universe Subcommittee.

DATES: Thursday, March 16, 2000, 8:30 a.m. to 5:30 p.m., Friday, March 17, 2000, 8:30 a.m. to 3:00 p.m.

ADDRESSES: National Aeronautics and Space Administration, Conference Room 7H46, 300 E Street, SW, Washington, DC.

FOR FURTHER INFORMATION CONTACT: Dr. Alan Bunner, Code S, National Aeronautics and Space Administration, Washington, DC 20546, (202) 358-2150.

SUPPLEMENTARY INFORMATION: The meeting will be open to the public up to the capacity of the room. The agenda for the meeting is as follows:

—Structure and Evolution of the Universe Subcommittee Update from Headquarters

—Strategic Plan Overview

—Chandra Update

—Structure and Evolution of the Universe Subcommittee Technology Status

—Structure and Evolution of the Universe Subcommittee Strategic Plan Status

It is imperative that the meeting be held on these dates to accommodate the scheduling priorities of the key participants. Visitors will be requested to sign a visitor's register.

Dated: February 24, 2000.
Matthew M. Crouch,
Advisory Committee Management Officer, National Aeronautics and Space Administration.

[FR Doc. 00-4812 Filed 2-28-00; 8:45 am]

BILLING CODE 7510-01-P